COMMODITY FUTURES TRADING COMMISSION

Agricultural Advisory Committee; Meeting

AGENCY: Commodity Futures Trading Commission.

ACTION: Notice of meeting.

SUMMARY: The Commodity Futures Trading Commission (CFTC) announces that on December 7, 2022 from 9:00 a.m. to 12:45 p.m. (Eastern Standard Time), the Agricultural Advisory Committee (AAC or Committee) will hold an in-person public meeting at the CFTC's Washington, DC headquarters with options for the public to attend virtually. At this meeting, the AAC will focus on topics related to the agricultural economy, including geopolitical and sustainability issues, as well as recent developments in the agricultural derivatives markets. The AAC will also address procedural matters, including topics of discussion on a forward-looking basis.

DATES: The meeting will be held on December 7, 2022, from 9:00 a.m. to 12:45 p.m. (Eastern Standard Time). Members of the public who wish to submit written statements in connection with the meeting should submit them by December 14, 2022.

ADDRESSES: The meeting will take place in the Conference Center at the CFTC's headquarters, Three Lafayette Centre, 1155 21st Street NW, Washington, DC 20581 subject to CFTC facility health protocols in place at that time. You may submit public comments, identified by Agricultural Advisory Committee through the CFTC website at https://comments.cftc.gov. Follow the instructions for submitting comments through the Comments Online process on the website. If you are unable to submit comments online, contact Brigitte Weyls, Designated Federal Officer, via the contact information listed below to discuss alternate means of submitting your comments. Any statements submitted in connection with the committee meeting will be made available to the public, including publication on the CFTC website, https://www.cftc.gov.

FOR FURTHER INFORMATION CONTACT: Brigitte Weyls, Agricultural Advisory Committee Designated Federal Officer, Commodity Futures Trading Commission, 77 West Jackson Blvd., Suite 800, Chicago, IL 60604; (312) 596-0547; or aac@cftc.gov.

SUPPLEMENTARY INFORMATION: The meeting will be open to the public with seating on a first-come, first-served basis. Seating may be limited due to the Centers for Disease Control and Prevention's COVID-19 Community Level, which may require facilitating physical distancing to avoid overcrowding and additional restrictions. Members of the public may also listen to the meeting by telephone by calling a domestic or international toll or toll-free number to connect to a live, listen-only audio feed. Call-in participants should be prepared to provide their first name, last name, and affiliation.

Domestic Numbers (for higher quality, dial a number based on your current location): +1 669 254 5252 or +1 646 828 7666 or +1 551 285 1373 or +1 669 216 1590 or 833 435 1820 (Toll Free) or 833 568 8864 (Toll Free).

International Numbers: Will be posted on the CFTC's website, https://www.cftc.gov, on the page for the meeting, under Related Links.

Webinar ID: 161 934 5640.

Pass Code/Pin Code: 323866.

Members of the public may also view a live webcast of the meeting via the https://www.cftc.gov website. The meeting agenda may change to accommodate other Committee priorities. For agenda updates, please visit https://www.cftc.gov/About/AdvisoryCommittees/AAC.

After the meeting, a transcript of the meeting will be published through a link on the CFTC's website, https://www.cftc.gov. Persons requiring special accommodations to attend the meeting because of a disability should notify the individual listed in the FOR FURTHER INFORMATION CONTACT section of this notice.

(Authority: 5 U.S.C. app. 2 section 10(a)(2))

Dated: November 7, 2022.
Robert Sidman,
Deputy Secretary of the Commission.

[FR Doc. 2022-24591 Filed 11-9-22; 8:45 am]

BILLING CODE 6351-01-P